DEPARTMENT OF THE TREASURY

Fiscal Service

Bureau of the Fiscal Service

Fee Schedule for the Transfer of U.S. Treasury Book-Entry Securities Held on the Fedwire Securities Service

AGENCY: Bureau of the Fiscal Service, Fiscal Service, Treasury.

ACTION: Notice.

SUMMARY: The Department of the Treasury (Treasury) is announcing a new process to establish a fee schedule applicable to transfers of U.S. Treasury book-entry securities maintained on the Fedwire Securities Service (Fedwire) that will start on or after January 1, 2023.

DATES: Applicable January 1, 2023.

FOR FURTHER INFORMATION CONTACT: Janeene Matias, Bureau of the Fiscal Service, 304-480-6321.

SUPPLEMENTARY INFORMATION: Effective January 1, 2023, the Federal Reserve will be responsible for establishing the fee structure for the transfer of Treasury book-entry securities maintained on Fedwire, consistent with section 11A of the Federal Reserve Act and with Federal Reserve polices. This change, which applies to both the basic fee and off-line surcharge, will result in a consistent fee structure for transfers of Treasury and all other securities issued over Fedwire. Specific fee amounts will be set out in a separate Federal Register notice published by the Federal Reserve and will also be available on the Federal Reserve's FRBservices.org website.¹

¹ For a current listing of the Federal Reserve System's fees, please refer to https://www.frbservices.org/financial-services/securities/index.html.

Treasury does not charge a fee for account maintenance, the stripping and reconstitution of Treasury securities, the wires associated with original issues, or interest and redemption payments. Treasury currently absorbs these costs and will continue to do so unless otherwise announced.

Authority: 31 CFR 357.45.

Timothy E. Gribben,
Commissioner, Bureau of the Fiscal Service.

[FR Doc. 2022-22995 Filed 10-21-22; 8:45 am]

BILLING CODE 4810-AS-P